OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Glenda Haendschke, Acting Group Manager, Executive Resources Services Group, Center for Human Resources, Division for Human Capital Leadership and Merit System Accountability, 202-606-2246.

SUPPLEMENTARY INFORMATION: Appearing in the listing below are the individual authorities established under Schedules A, B, and C between July 1, 2009, and July 31, 2009. These notices are published monthly in the Federal Register at www.gpoaccess.gov/fr/. A consolidated listing of all authorities as of June 30 is published each year. The following Schedules are not codified in the code of Federal Regulations. These are agency specific exceptions.

Schedule A

No Schedule A authority to report.

Schedule B

No Schedule B authority to report.

Schedule C

The following Schedule C appointments were approved during June 2009.

Office of Science and Technology Policy

TSGS09003 Policy Assistant to the Chief of Staff. Effective July 29, 2009.

Office of Management and Budget

BOGS90013 Legislative Assistant for Legislative Affairs. Effective July 29, 2009.

Office of National Drug Control Policy

QQGS90004 Policy Advisor to the Chief of Staff. Effective July 9, 2009.

QQGS90005 Deputy Associate Director for Public Affairs. Effective July 9, 2009.

QQGS90006 Outreach and Events Coordinator for the Chief of Staff. Effective July 13, 2009.

QQGS90007 Associate Director for Public Affairs. Effective July 15, 2009.

Department of State

DSGS69962 Protocol Officer, Ceremonials to the Chief of Protocol. Effective July 6, 2009.

DSGS69969 Special Assistant, Policy Planning Staff. Effective July 8, 2009.

DSGS69919 Staff Assistant to the Chief of Protocol. Effective July 9, 2009.

DSGS69971 Staff Assistant to the Director, Policy Planning Staff. Effective July 27, 2009.

DSGS69999 Program Analyst, Refugees and Migration. Effective July 27, 2009.

DSGS69956 Director for Global and Functional Affairs for Legislative and Intergovernmental Affairs. Effective July 28, 2009.

Department of the Treasury

DYGS00522 Special Assistant to the Director of Scheduling and Advance. Effective July 1, 2009.

DYGS60404 Senior Advisor to the Assistant Secretary (Financial Institutions). Effective July 6, 2009.

DYGS60318 Deputy Director for Legislative Affairs. Effective July 16, 2009.

Department of Defense

DDGS17236 Public Affairs Specialist for Public Affairs. Effective July 6, 2009.

DDGS17235 Special Assistant to the Assistant Secretary of Defense (Global Strategic Affairs). Effective July 7, 2009.

DDGS17237 Special Assistant for Asian and Pacific Security Affairs for Defense (Legislative Affairs). Effective July 15, 2009.

DDGS17238 Special Assistant to the Assistant Secretary of Defense (Legislative Affairs). Effective July 17, 2009.

DDGS17239 Special Assistant for Networks and Information Integration of Defense (Legislative Affairs). Effective July 24, 2009.

DDGS17246 Special Assistant to the Assistant Secretary of Defense (Asian and Pacific Security Affairs). Effective July 24, 2009.

DDGS17240 Defense Fellow for Special Assistant to the Secretary of Defense for the White House Liaison. Effective July 28, 2009.

DDGS17243 Defense Fellow for Special Assistant to the Secretary of Defense for the White House Liaison. Effective July 28, 2009.

DDGS17244 Defense Fellow for Special Assistant to the Secretary of Defense for the White House Liaison. Effective July 28, 2009.

DDGS17245 Defense Fellow for Special Assistant to the Secretary of Defense for the White House Liaison. Effective July 28, 2009.

DDGS17247 Defense Fellow for Special Assistant to the Secretary of Defense for the White House Liaison. Effective July 28, 2009.

DDGS17248 Defense Fellow for Special Assistant to the Secretary of Defense for the White House Liaison. Effective July 28, 2009.

DDGS17249 Defense Fellow for Special Assistant to the Secretary of Defense for the White House Liaison. Effective July 28, 2009.

DDGS17250 Defense Fellow for Special Assistant to the Secretary of Defense for the White House Liaison. Effective July 31, 2009.

Department of the Navy

DNGS60076 Director of Strategic Communications for the Navy. Effective July 31, 2009.

Department of the Air Force

DFGS60020 Special Assistant to the General Counsel. Effective July 27, 2009.

Department of Justice

DJGS00304 Associate Director to the Deputy Director, Office of Intergovernmental and Public Liaison. Effective July 6, 2009.

DJGS00519 Attorney Advisor to the Assistant Attorney General (Legislative Affairs). Effective July 7, 2009.

DJGS00333 Special Assistant to the Assistant Attorney General. Effective July 9, 2009.

DJGS00531 Research Assistant to the Director, Office of Intergovernmental and Public Liaison. Effective July 10, 2009.

DJGS00103 Counsel to the Associate Attorney General. Effective July 15, 2009.

DJGS00528 Counsel to the Assistant Attorney General Civil Division. Effective July 21, 2009.

DJGS00536 Special Assistant to the Director of the Violence Against Women Office. Effective July 22, 2009.

DJGS00537 Counsel to the Director. Effective July 22, 2009.

DJGS00164 Counsel to the Assistant Attorney General. Effective July 24, 2009.

DJGS00233 Counsel to the Assistant Attorney General Civil Division. Effective July 27, 2009.

DJGS00499 Confidential Assistant to the Director of the Violence Against Women Office. Effective July 27, 2009.

DJGS00505 Confidential Assistant to the Solicitor General. Effective July 27, 2009.

DJGS00511 Special Assistant to the Attorney General. Effective July 27, 2009.

Department of Homeland Security

DMGS00824 Advisor to the Assistant Secretary for Policy. Effective July 14, 2009.

DMGS00833 Confidential Assistant to the Under Secretary for National Protection and Programs. Effective July 14, 2009.

DMGS00783 Director/Executive Secretariat, Private Sector Advisory Committee. Effective July 17, 2009.

DMGS00832 Confidential Assistant to the Assistant Secretary for International Affairs. Effective July 17, 2009.

DMGS00830 Executive Assistant to the Commissioner, United States Customs and Border Protection. Effective July 21, 2009.

DMGS00834 Executive Assistant to the Deputy Secretary of the Department of Homeland Security. Effective July 22, 2009.

Department of the Interior

DIGS01166 Administrative Aide to the Director, External and Intergovernmental Affairs. Effective July 7, 2009.

DIGS01167 Special Assistant to the Assistant Secretary for Fish and Wildlife and Parks. Effective July 7, 2009.

DIGS01168 Counselor to the Assistant Secretary—Water and Science. Effective July 21, 2009.

DIGS00101 Special Assistant to the Director Bureau of Land Management. Effective July 27, 2009.

Department of Agriculture

DAGS00154 Senior Advisor for the Under Secretary for Research, Education and Economics. Effective July 9, 2009.

DAGS00158 Confidential Assistant to the Administrator for Risk Management. Effective July 9, 2009.

DAGS00159 Senior Advisor to the Under Secretary for Research, Education and Economics. Effective July 9, 2009.

DAGS00163 Senior Advisor to the Under Secretary for Research, Education and Economics. Effective July 13, 2009.

DAGS00103 Director of Advance for the Director of Communications. Effective July 15, 2009.

DAGS00107 Director, Economic and Community Development for Rural Development. Effective July 15, 2009.

DAGS00108 Director of Speechwriting/Research for the Director of Communications. Effective July 15, 2009.

DAGS00112 Special Assistant to the Deputy Assistant Secretary for Natural Resources and Environment. Effective July 15, 2009.

DAGS00148 Confidential Assistant to the Secretary. Effective July 15, 2009.

DAGS00164 Confidential Assistant to the Administrator, Farm Service Agency. Effective July 15, 2009.

DAGS00165 Deputy Director of Communications. Effective July 15, 2009.

DAGS00106 Confidential Assistant to the Assistant Secretary for Administration. Effective July 22, 2009.

DAGS00160 Press Assistant for the Director of Communications. Effective July 22, 2009.

DAGS00162 Staff Assistant to the Deputy Secretary. Effective July 22, 2009.

DAGS00166 Special Assistant to the Administrator. Effective July 22, 2009.

DAGS00167 Confidential Assistant to the Assistant Secretary for Congressional Relations. Effective July 22, 2009.

DAGS00168 Senior Advisor, External Affairs, Farm Service Agency. Effective July 22, 2009.

DAGS00170 Associate Regional Chief—East, Natural Resources Conservation Service. Effective July 28, 2009.

DAGS00171 Regional Associate Chief—West, Natural Resources Conservation Service. Effective July 28, 2009.

DAGS00161 Press Secretary to the Director of Communications. Effective July 31, 2009.

Department of Commerce

DCGS60173 Senior Policy Advisor for the Assistant Secretary for Economic Development. Effective July 2, 2009.

DCGS00628 Confidential Assistant to the Director of Scheduling and Advance. Effective July 7, 2009.

DCGS00321 Chief of Congressional Affairs for the Associate Director for Communications. Effective July 8, 2009.

DCGS00342 Special Assistant to the Assistant Secretary for Import Administration. Effective July 16, 2009.

DCGS00161 Special Assistant to the Under Secretary, International Trade Administration. Effective July 21, 2009.

DCGS00162 Senior Advisor to the Assistant Secretary for Market Access and Compliance. Effective July 21, 2009.

DCGS00302 Director of External Affairs for National Oceanic and Atmospheric Administration. Effective July 21, 2009.

DCGS00392 Confidential Assistant to the Assistant Secretary and Director General of United States/Foreign Commercial Service. Effective July 21, 2009.

DCGS00442 Congressional Affairs Specialist for National Telecommunications and Information Administration. Effective July 21, 2009.

DCGS00506 Special Assistant to the Chief of Staff, International Trade Administration. Effective July 21, 2009.

DCGS00520 Special Assistant to the Assistant Secretary for Market Access and Compliance. Effective July 21, 2009.

DCGS00637 Special Assistant to the Assistant Secretary and Director General of United States/Foreign Commercial Service. Effective July 21, 2009.

DCGS00664 Special Assistant to the Assistant Secretary and Director General of United States/Foreign Commercial Service. Effective July 21, 2009.

DCGS60395 Confidential Assistant to the Assistant Secretary and Director General of United States/Foreign Commercial Service. Effective July 21, 2009.

Department of Labor

DLGS60226 Legislative Officer for Congressional and Intergovernmental Affairs. Effective July 1, 2009.

DLGS60270 Special Assistant to the Assistant Secretary for Employment and Training. Effective July 1, 2009.

DLGS60220 Director of Public Engagement. Effective July 6, 2009.

DLGS60235 Legislative Assistant for Congressional and Intergovernmental Affairs. Effective July 13, 2009.

Department of Health and Human Services

DHGS60570 Confidential Assistant (Advance) to the Deputy Director for Advance. Effective July 1, 2009.

DHGS60017 Director of Scheduling and Advance. Effective July 9, 2009.

DHGS60336 Confidential Assistant to the Deputy Assistant Secretary for Legislation (Human Services). Effective July 9, 2009.

DHGS00267 Policy Coordinator for the Executive Secretariat to the Department. Effective July 17, 2009.

DHGS60046 Senior Speech Writer for Public Affairs. Effective July 17, 2009.

DHGS60112 Confidential Assistant to the Deputy Secretary for Public Affairs (Policy and Strategy). Effective July 17, 2009.

DHGS60257 Special Assistant to the Director, Intergovernmental Affairs. Effective July 17, 2009.

DHGS60028 Special Assistant to the Chief of Staff. Effective July 20, 2009.

DHGS60075 Special Assistant to the Director, Center for Faith Based and Community Initiatives. Effective July 20, 2009.

DHGS60511 Special Assistant to the Deputy Assistant Secretary and Inter-Departmental Liaison for Early Childhood Development. Effective July 21, 2009.

Department of Education

DBGS00222 Confidential Assistant to the Director, Race to the Top. Effective July 1, 2009.

DBGS00683 Special Assistant to the Deputy Secretary of Education. Effective July 1, 2009.

DBGS00197 Confidential Assistant to the Special Assistant, Office of Legislation and Congressional Affairs. Effective July 2, 2009.

DBGS00435 Special Assistant to the Assistant Secretary, Office of Communications and Outreach. Effective July 2, 2009.

DBGS00682 Deputy General Counsel. Effective July 7, 2009.

DBGS00609 Special Assistant to the Under Secretary. Effective July 9, 2009.

DBGS00103 Special Assistant to the Assistant Secretary for Planning, Evaluation, and Policy Development. Effective July 20, 2009.

DBGS00231 Confidential Assistant to the Deputy Under Secretary. Effective July 20, 2009.

DBGS00509 Director of the White House Initiative on Historically Black Colleges and Universities. Effective July 20, 2009.

DBGS00680 Deputy Assistant Secretary for Planning, Evaluation, and Policy Development. Effective July 20, 2009.

DBGS00428 Confidential Assistant to the Special Assistant, Office of Communication and Outreach. Effective July 23, 2009.

DBGS00684 Special Assistant to the Deputy Secretary of Education. Effective July 23, 2009.

DBGS00004 Senior Advisor on Early Learning for the Chief of Staff. Effective July 31, 2009.

Environmental Protection Agency

EPGS06019 Director, Office of the Executive Secretariat. Effective July 16, 2009.

EPGS09010 Special Assistant to the Associate Administrator for Public Affairs. Effective July 24, 2009.

Federal Communications Commission

FCGS90147 Legislative Analyst for the Director, Office of Legislative Affairs. Effective July 21, 2009.

FCGS90148 Legislative Analyst for the Director, Office of Legislative Affairs. Effective July 21, 2009.

Department of Energy

DEGS00764 Special Assistant to the General Counsel. Effective July 7, 2009.

DEGS00762 Special Assistant to the Chief of Staff. Effective July 22, 2009.

DEGS00765 Special Assistant to the Assistant Secretary (Energy Efficiency and Renewable Energy). Effective July 22, 2009.

Small Business Administration

SBGS00540 Assistant Administrator for Faith-Based and Community Initiatives. Effective July 9, 2009.

SBGS00653 Deputy General Counsel. Effective July 9, 2009.

SBGS00685 Special Assistant to the Chief of Staff. Effective July 24, 2009.

SBGS00686 Senior Advisor to the Chief Operating Officer. Effective July 30, 2009.

SBGS00622 Assistant Administrator for Native American Affairs for Entrepreneurial Development. Effective July 31, 2009.

General Services Administration

GSGS60095 White House Liaison. Effective July 1, 2009.

GSGS60069 Press Secretary for Communications and Marketing. Effective July 17, 2009.

GSGS00015 Special Assistant to the Chief of Staff. Effective July 22, 2009.

GSGS00090 Special Assistant to the White House Liaison. Effective July 22, 2009.

GSGS00095 Congressional Relations Specialist for Congressional and Intergovernmental Affairs. Effective July 22, 2009.

GSGS00168 Special Assistant to the White House Liaison. Effective July 22, 2009.

GSGS00190 Congressional Relations Specialist for Congressional and Intergovernmental Affairs. Effective July 22, 2009.

GSGS60126 Deputy Associate Administrator for Communications and Marketing for Citizen Services and Communications. Effective July 22, 2009.

Export-Import Bank

EBSL45019 Senior Vice President and General Counsel to the President and Chairman. Effective July 1, 2009.

EBGS44809 Senior Advisor and Executive Secretary to the President and Chairman. Effective July 13, 2009.

EBGS42989 Senior Advisor to the President and Chairman. Effective July 21, 2009.

Occupational Safety and Health Review Commission

SHGS00016 Confidential Assistant to the Commission Member (Chairman). Effective July 9, 2009.

Consumer Product Safety Commission

PSGS00055 Chief of Staff to the Chairman, Consumer Product Safety Commission. Effective July 9, 2009.

Commodity Futures Trading Commission

CTOT00056 Special Assistant to the Commissioner. Effective July 21, 2009.

CTOT00088 Deputy Chief of Staff for the Chairperson. Effective July 31, 2009.

National Endowment for the Arts

NAGS00052 Executive Assistant for the Chairman, National Endowment for the Arts. Effective July 6, 2009.

NAGS00025 Arts Education Counselor to the Senior Deputy Chairman. Effective July 29, 2009.

Department of Housing and Urban Development

DUGS60512 Special Assistant to the Deputy Secretary, Housing and Urban Development. Effective July 6, 2009.

DUGS60701 Special Assistant to the Chief Financial Officer. Effective July 6, 2009.

DUGS60702 Special Assistant to the Chief Financial Officer. Effective July 6, 2009.

Department of Transportation

DTGS60054 Associate Director for Governmental Affairs. Effective July 13, 2009.

DTGS60139 Special Assistant to the Deputy Secretary. Effective July 13, 2009.

Authority: 5 U.S.C. 3301 and 3302; E.O. 10577, 3 CFR 1954-1958 Comp., p. 218.

Office of Personnel Management.
John Berry,
Director.

[FR Doc. E9-21038 Filed 8-31-09; 8:45 am]

BILLING CODE 6325-39-P